DEPARTMENT OF TRANSPORTATION

Surface Transportation Board

[STB Finance Docket No. 34091]

Delaware-Lackawanna Railroad Co., Inc.—Operation Exemption—Monroe County Railroad Authority

Delaware-Lackawanna Railroad Co., Inc. (D-L), a Class III rail carrier, has filed a verified notice of exemption under 49 CFR 1150.41 to operate over approximately 10 miles of rail line to be acquired by Monroe County Railroad Authority (MCRA) pursuant to a sublease. The line, which has been operated by Norfolk Southern Railway Company (NSR), consists of that portion of the Stroudsburg Secondary Track extending between milepost 2.0, approximately old milepost 74.4 (Slate), and milepost 12.2, approximately old milepost 84.6 (Gravel), in Monroe and Northampton Counties, PA.¹

¹ D-L's operation of the line is subject to the NSR's retention of overhead trackage rights.

This transaction is related to STB Finance Docket No. 34092, Monroe County Railroad Authority—Lease Exemption—Norfolk Southern Railway Company and Pennsylvania Lines LLC, wherein MCRA seeks to sublease the line involved here.

The transaction was scheduled to be consummated on or about September 14, 2001. The earliest the transaction could have been consummated was on September 14, 2001, the effective date of the exemption (7 days after the exemption was filed).

If the notice contains false or misleading information, the exemption is void ab initio. Petitions to revoke the exemption under 49 U.S.C. 10502(d) may be filed at any time. The filing of a petition to revoke does not automatically stay the transaction.

An original and 10 copies of all pleadings, referring to STB Finance Docket No. 34091, must be filed with the Surface Transportation Board, Office of the Secretary, Case Control Unit, 1925 K Street, NW., Washington, DC 20423-0001. In addition, a copy of each pleading must be served on Keith G. O'Brien, Esq., REA, CROSS & AUCHINCLOSS, 1707 L Street, NW., Suite 570, Washington, DC 20036.

Board decisions and notices are available on our website at www.stb.dot.gov.

Decided: September 24, 2001.
By the Board, David M. Konschnik, Director, Office of Proceedings.
Vernon A. Williams,
Secretary.

[FR Doc. 01-24396 Filed 9-27-01; 8:45 am]

BILLING CODE 4915-01-P